DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Privacy, Confidentiality and Security.

Date and Times: Thursday, March 21, 2019: 9:00 a.m.-5:30 p.m. (EDT), Friday, March 22, 2019: 8:30 a.m.-3:00 p.m. (EDT).

Place: Centers for Disease Control and Prevention, National Center for Health Statistics, 3311 Toledo Road, Auditorium, Hyattsville, Maryland 20782.

Status: Open. There will be an opportunity for public comment at the end of the first day of the meeting.

Purpose: NCVHS is charged with studying and identifying privacy and security and access measures to protect individually identifiable health information in an environment of electronic networking and multiple uses of data. Further, the Committee advises the Secretary and is mandated to report to Congress on the status of the Health Insurance Portability and Accountability Act of 1996 (HIPAA), which establishes the regulatory framework for personally identifiable health information by covered entities and business associates.

Through the Subcommittee on Privacy, Confidentiality and Security, the Committee undertook a “Beyond HIPAA” initiative to examine emerging health information privacy and security issues that are beyond the scope of HIPAA to consider a health data privacy and security framework for the 21st century. The goals for the Beyond HIPAA initiative are to:

1. Identify and describe the changing environment and the risks to privacy and security of confidential health information; highlight promising policies, practices and technology;

2. Lay out integrative models for how best to protect individuals' privacy and secure health data uses outside of HIPAA protections while enabling useful uses, services and research;

3. Formulate recommendations for the Secretary on actions that HHS and other federal Departments might take; and

4. Prepare a report for data stewardship.

The objective of this meeting is to develop recommendations to define a contemporary framework of data stewardship for the HHS Secretary, including a pathway for improving private and public sector governance of health information over the next decade. To accomplish this, the Subcommittee plans to:

(a) Outline key principles for stewardship of health data in the environment described in a recent NCVHS environmental scan report and the essential public and private levers to ensure appropriate governance;

(b) Reach consensus on actions to update NCVHS' 2008 report, “Enhanced Protections for Uses of Health Data: A Stewardship Framework for “Secondary Uses” of Electronically Collected and Transmitted Health Data—Summary for Policy Makers.”

Through this work, the Subcommittee also plans to identify key themes for communications with individuals, policymakers, and stakeholders in the private sector. The times and topics for this meeting are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Information pertaining to meeting content may be obtained from Rachel Seeger, MA, MPA, Office of the Secretary/Office of Civil Rights, Room 509E, Department of Health and Human Services, 200 Independence Avenue SW, Washington, DC 20201, telephone: (202) 260-7106. Summaries of meetings and a roster of Committee members are available on the NCVHS website: www.ncvhs.hhs.gov, where further information including a meeting agenda and instructions to access the live broadcast of the meeting will be posted.

Should you require reasonable accommodation, please contact the CDC Office of Equal Employment Opportunity on (770) 488-3210 as soon as possible.

Dated: January 28, 2019.
Sharon Arnold,
Associate Deputy Assistant Secretary for Planning and Evaluation, Science and Data Policy, Office of the Assistant Secretary for Planning and Evaluation.

[FR Doc. 2019-00706 Filed 1-31-19; 8:45 am]

BILLING CODE 4151-05-P